DEPARTMENT OF HEALTH AND HUMAN SERVICES

Administration for Children and Families

Submission for OMB Review; Comment Request

Title: Developmental Disabilities Program Independent Evaluation Project.

OMB No.: New Collection.

Description: The Developmental Disabilities Program Independent Evaluation (DDPIE) Project is an independent (non-biased) evaluation to examine through rigorous and comprehensive performance-based research procedures the targeted impact on the lives of people with developmental disabilities and their families of three programs funded under the Developmental Disabilities Assistance and Bill of Rights Act of 2000 (DD Act): (1) State Councils on Developmental Disabilities (SCDDs); (2) State Protection and Advocacy Systems for Individuals with developmental disabilities (P&As); and (3) University Centers for Excellence in Developmental Disabilities (UCEDDs). The intent of this evaluation is to understand and report on the accomplishments of these programs, including collaborative efforts among the DD Network programs. The results of this evaluation will provide a report to the Administration on Developmental Disabilities (ADD) (the agency that administers these programs) with information on the effectiveness of its programs and policies and serve as a way for ADD to promote accountability to the public.

The independent evaluation is a response to accountability requirements for ADD as identified in the Developmental Disabilities Assistance and Bill of Rights Act of 2000 (DD Act), the Government Performance and Results Act (GPRA) of 1993, and the Program Assessment Rating Tool (PART), administered by the Office of Management and Budget (OMB). This project meets the requirements of PART by providing a non-biased method of evaluating the effectiveness and impact of DD Network programs on the lives of people with developmental disabilities and their families.

ADD is seeking OMB approval for the evaluation tools (e.g., data collection instruments). The evaluation tools are designed to collect data for two purposes: (1) To measure the programs according to indicators (structural, process, output, and outcome) in key function areas; and (2) to establish performance standards for measuring the impact of each of the programs. The evaluation tools are primarily protocols for conducting interviews with various staff of the three programs and stakeholders associated with the programs. The interview protocols were tested during a pilot study in 2008. There is also a self-administered form for each of the programs to be completed by Executive Directors or his/her designee. The self-administered form was developed as a result of the pilot study and, therefore, has not been tested for reliability and validity. It is intended that the clearance process will be a mechanism for determining the reliability, validity, and feasibility of using this instrument.

Respondents: Staff of State Councils on Developmental Disabilities, State Protection and Advocacy Systems for Individuals with developmental disabilities, and University Centers for Excellence in Developmental Disabilities, Education, Research, and Service; individuals with developmental disabilities; parents of individuals with developmental disabilities; siblings of individuals with developmental disabilities; guardians; advocates; policymakers; service providers; university faculty; and others (e.g., DDC chairs, members of Protection and Advocacy boards of directors or commissioners; Consumer Advisory Committee members)

Annual Burden Estimates
Instrument | Number of respondents | Number of responses per respondent | Average burden hours per response | Total burden hours
DD Council: Executive Director Interview | 20 | 1 | 4 | 80
DD Council: Interview with Council Chair/Council Members | 60 | 1 | 0.75 | 45
DD Council: Group Interview with Policymakers, Collaborators, and Grantees | 160 | 1 | 2 | 320
UCEDD: Telephone Interview with Current and Graduated Students | 100 | 1 | 0.75 | 75
UCEDD: Interview with the Consumer Advisory Committee | 60 | 1 | 0.75 | 45
UCEDD: Interview with Peer Researchers and Colleagues | 100 | 1 | 0.75 | 75
UCEDD: Interview with Recipients of Community Services or Members of Organizations/Agencies that Are Trained To Provide Community Services | 100 | 1 | 0.75 | 75
UCEDD: Self-administered Form | 20 | 1 | 8 | 160
P&A: Executive Director Interview | 20 | 1 | 4 | 80
P&A: Staff Interview | 60 | 1 | 0.75 | 45
P&A: Board of Directors (Commissioners)—Chair and Members | 60 | 1 | 0.75 | 45
P&A: Group Interview with Policymakers and Collaborators | 160 | 1 | 2 | 320
P&A: Interview with Recipient of Community Education | 100 | 1 | 0.75 | 75
P&A: Interview with Clients | 100 | 1 | 0.75 | 75
P&A: Self-administered Form | 20 | 1 | 8 | 160
UCEDD: Interview with Director | 20 | 1 | 4 | 80
DD Council: Group Interview with Recipients of Self-Advocacy and Leadership Education and Training | 100 | 1 | 0.75 | 75
DD Council: Group Interview with Recipients of Education and Training to Improve Community Capacity | 100 | 1 | 0.75 | 75
DD Council: Self-administered Form | 20 | 1 | 8 | 160
DD Council Estimate of Total Burden Hours for Activities to Support Administration of Proposed Information Collection Instruments | 20 | 1 | 33.50 | 670
P&A Estimate of Total Burden Hours for Activities to Support Administration of Proposed Information Collection Instruments | 20 | 1 | 33.50 | 670
UCEDD Estimate of Total Burden Hours for Activities to Support Administration of Proposed Information Collection Instruments | 20 | 1 | 33.50 | 670

Estimated Total Annual Burden Hours: 4,075.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7245, Attn: Desk Officer for the Administration for Children and Families.

Dated: June 30, 2009.
Janean Chambers,
Reports Clearance Officer.

[FR Doc. E9-15841 Filed 7-6-09; 8:45 am]

BILLING CODE 4184-01-P